DEPARTMENT OF LABOR

Employment and Training Administration

Proposed Information Collection; Comments: Agricultural and Food Processing Clearance Order, ETA Form 790 and the Agricultural and Food Processing Clearance Memorandum, ETA Form 795

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before June 21, 2004.

ADDRESSES: Send comments to: Anthony Dais, U.S. Department of Labor/Employment and Training Administration, Office of Workforce Investment, Room S-4231, 200 Constitution Avenue, NW., Washington, DC 20210, telephone: 202-693-2784 (this is not a toll-free number) fax: 202-693-3015 and Internet address: dais.anthony@dol.gov.

FOR FURTHER INFORMATION CONTACT: Erik Lang, U.S. Department of Labor/Employment and Training Administration, Office of Workforce Investment, Room S-4231, 200 Constitution Avenue, NW., Washington, DC 20210, telephone: 202-693-2916 (this is not a toll-free number) and Internet address: lang.erik@dol.gov.

SUPPLEMENTARY INFORMATION:

I. Background

ETA regulations at 20 CFR 653.500 established procedures for the recruitment of agricultural workers. In situations where an adequate supply of workers does not exist in the local recruiting area, out-of-area recruitment can be attempted. In order to initiate out-of-area recruitment for temporary agricultural work, agricultural employers must use the Agricultural and Food Processing Clearance Order, ETA Form 790, if they wish to list the job opening with the State Workforce Agencies (SWAs). The Agricultural and Food Processing Clearance Memorandum, ETA Form 795 is used by SWAs to extend job orders beyond their jurisdictions, give notice of action on a clearance order, request additional information, amend the order, report results, and accept or reject the extended job order.

II. Desired Focus of Comments

Currently, ETA is soliciting comments concerning the proposed two-year extension and change of the Agricultural and Food Processing Clearance Order, ETA Form 790, and the Agricultural and Food Processing Clearance Memorandum, ETA Form 795, from the current end date of June 30, 2004, to a new end date of June 30, 2006. Changes are proposed for both forms, particularly the Agricultural Food Processing Clearance Order, ETA Form 790. Both forms will be produced in a bilingual, English-Spanish format. The Agricultural Food Processing Clearance Order, ETA Form 790 will be lengthened slightly to include a number of items required by the Migrant and Seasonal Agricultural Worker Protection Act, 29 U.S.C. 1800 et seq. These items will provide workers with needed specifics surrounding a job prior to considering employment outside of their commuting area (i.e., Workers Compensation Insurance information, the availability of Unemployment Compensation Insurance coverage, the existence of a work stoppage, etc.). These items are replicated from the Worker Information—Terms and Conditions of Employment, Wage & Hour Form 516. By adding these items to the Agricultural Food Processing Clearance Order, ETA Form 790, agricultural employers will satisfy their disclosure requirements without also having to fill out the Worker Information—Terms and Conditions of Employment, Wage & Hour Form 516. This will ensure that workers receive full disclosure of required terms and conditions of employment in an appropriate language prior to traveling out of their commuting area. Comments are requested in order to achieve the following:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed information collection request can be obtained by contacting the office listed above in the addressee section of this notice.

III. Current Actions

This is a request for Office of Management and Budget (OMB) under the Paperwork Reduction Act of 1995 (PRA95) (44 U.S.C. 3506(c)(2)(A)) to extend the collection and change of the Agricultural and Food Processing Clearance Order, ETA Form 790, and the Agricultural and Food Processing Clearance Memorandum, ETA Form 795, from the current end of date of June 30, 2004, to the new end date of June 30, 2006.

Type of Review: Extension (with change).

Agency: Employment and Training Administration.

Title: Agricultural and Food Processing Clearance Order, ETA Form 790, and the Agricultural and Food Processing Clearance Memorandum, ETA Form 795.

OMB Number: 1205-0134.

1. Processing ETA Form 790

Annual number of forms: 4,600.

Minutes per form: 60.

Processing hours: 4,600.

2. Processing ETA Form 795

Annual number of forms: 1,000.

Minutes per form: 15.

Processing hours: 250.

Estimated Total Burden Hours: 4,850.

Frequency: On occasion.

Affected Public: Employers, and State Governments.

Number of Respondents: 3,000.

Estimated Total Burden Hours: 4,850.

Total Burden Cost (operating/maintaining): $0.

Comments submitted in response to this notice will be summarized and/or included in the request for Office of Management and Budget approval of the information collection request; they will also become a matter of public record.

Dated: April 8, 2004.
Emily Stover DeRocco,
Assistant Secretary for Employment and Training.

BILLING CODE 4510-30-P

[FR Doc. 04-8992 Filed 4-20-04; 8:45 am]

BILLING CODE 4510-30-C